NUCLEAR REGULATORY COMMISSION

Advisory Committee on Reactor Safeguards (ACRS) Subcommittee Meeting on Materials, Metallurgy & Reactor Fuels; Notice of Meeting

The ACRS Subcommittee on Materials, Metallurgy & Reactor Fuels will hold a meeting on Friday, October 24, 2008, at 11545 Rockville Pike, Rockville, Maryland, Room T-2B3.

The meeting will be open to public attendance.

The agenda for the subject meeting shall be as follows:

Friday, October 24, 2008,—8:30 a.m.-12:30 p.m.

The Subcommittee will receive an update on the technical basis supporting changes to the fuel design criteria within 10 CFR 50.46 (b). The Subcommittee will hear presentations by and hold discussions with representatives of the NRC. The Subcommittee will gather information, analyze relevant issues and facts, and formulate proposed positions and actions, as appropriate, for deliberation by the full Committee.

Members of the public desiring to provide oral statements and/or written comments should notify the Designated Federal Officer, Mr. Christopher L. Brown (Telephone: 301-415-7111) 5 days prior to the meeting, if possible, so that appropriate arrangements can be made. Electronic recordings will be permitted only during those portions of the meeting that are open to the public. Detailed procedures for the conduct of and participation in ACRS meetings were published in the Federal Register on September 26, 2007, (72 FR 54695).

Further information regarding this meeting can be obtained by contacting the Designated Federal Official between 8:45 a.m. and 5:30 p.m. (ET). Persons planning to attend this meeting are urged to contact the above named individual at least two working days prior to the meeting to be advised of any potential changes to the agenda.

Dated: September 24, 2008.
Cayetano Santos,
Chief, Reactor Safety Branch A, ACRS.

[FR Doc. E8-23347 Filed 10-2-08; 8:45 am]

BILLING CODE 7590-01-P